DEPARTMENT OF HEALTH AND HUMAN SERVICES

Agency for Healthcare Research and Quality

Notice of Five AHRQ Subcommittee Meetings

AGENCY: Agency for Healthcare Research and Quality (AHRQ), HHS.

ACTION: Notice of meetings.

SUMMARY: The subcommittees listed in the DATES section of this notice are part of AHRQ's Health Services Research Initial Review Group Committee. Grant applications are to be reviewed and discussed at these meetings. Each subcommittee meeting will commence in open session before closing to the public for the duration of the meeting.

DATES: The dates for the five subcommittee meetings are as follows:

1. Healthcare Safety and Quality Improvement Research (HSQR)

Date: February 6-7, 2019 (Open from 7:30 a.m. to 8 a.m. on February 6th and closed for remainder of the meeting)

2. Healthcare Effectiveness and Outcomes Research (HEOR)

Date: February 13-14, 2019 (Open from 8:30 a.m. to 9 a.m. on February 13th and closed for remainder of the meeting)

3. Health System and Value Research (HSVR)

Date: February 20-21, 2019 (Open from 8 a.m. to 8:30 a.m. on February 20th and closed for remainder of the meeting)

4. Health Care Research and Training (HCRT)

Date: February 21-22, 2019 (Open from 8 a.m. to 8:30 a.m. on February 21st and closed for remainder of the meeting)

5. Healthcare Information Technology Research (HITR)

Date: February 28-March 1, 2019 (Open from 8 a.m. to 8:30 a.m. on February 28th and closed for remainder of the meeting)

ADDRESSES: Each meeting will be held at the Hilton Rockville & Executive Meeting Center, 1750 Rockville Pike, Rockville, Maryland 20852.

FOR FURTHER INFORMATION CONTACT: To obtain a roster of members, agenda, or minutes of the non-confidential portions of the meetings, contact: Mrs. Heather Phelps, Acting Committee Management Officer, Office of Extramural Research Education and Priority Populations, Agency for Healthcare Research and Quality (AHRQ), 5600 Fishers Lane, Rockville, Maryland 20857, Telephone (301) 427-1128.

SUPPLEMENTARY INFORMATION: In accordance with section 10(a)(2) of the Federal Advisory Committee Act (5 U.S.C. App. 2), AHRQ announces meetings of the above-listed scientific peer review groups, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

This meeting notice is being published less than 15 days in advance of the meeting due to the partial Government shutdown of December 2018.

Francis D. Chesley, Jr.,
Acting Deputy Director.

[FR Doc. 2019-00259 Filed 1-29-19; 8:45 am]

BILLING CODE 4160-90-P